DEPARTMENT OF TRANSPORTATION

Federal Aviation Administration

14 CFR Part 39

[Docket No. FAA-2015-4812; Directorate Identifier 2015-NM-034-AD; Amendment 39-18560; AD 2016-12-11]

RIN 2120-AA64

Airworthiness Directives; The Boeing Company Airplanes

AGENCY: Federal Aviation Administration (FAA), DOT.

ACTION: Final rule.

SUMMARY: We are adopting a new airworthiness directive (AD) for certain The Boeing Company Model 787-8 airplanes. This AD was prompted by a report that certain center and outboard stowage bin modules were incorrectly installed. This AD requires an inspection of the center and outboard stowage bin modules for missing parts, quick release pins that are not fully engaged, and parts that are installed in incorrect locations; and corrective actions if necessary. We are issuing this AD to detect and correct incorrectly installed center and outboard stowage bin modules that might not remain intact during an emergency landing, resulting in injuries to occupants and interference with airplane evacuation.

DATES: This AD is effective July 27, 2016.

The Director of the Federal Register approved the incorporation by reference of certain publications listed in this AD as of July 27, 2016.

ADDRESSES: For service information identified in this final rule, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2015-4812.

Examining the AD Docket

You may examine the AD docket on the Internet at http://www.regulations.gov by searching for and locating Docket No. FAA-2015-4812; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Stanley Chen, Aerospace Engineer, Cabin Safety and Environmental Systems Branch, ANM-150S, FAA, Seattle Aircraft Certification Office (ACO), 1601 Lind Avenue SW., Renton, WA 98057-3356; phone: 425-917-6585; fax: 425-917-6590; email: stanley.chen@faa.gov.

SUPPLEMENTARY INFORMATION:

Discussion

We issued a notice of proposed rulemaking (NPRM) to amend 14 CFR part 39 by adding an AD that would apply to certain The Boeing Company Model 787-8 airplanes. The NPRM published in the Federal Register on November 17, 2015 (80 FR 71745), (“the NPRM”). The NPRM was prompted by a report that certain center and outboard stowage bin modules were incorrectly installed. The NPRM proposed to require an inspection of the center and outboard stowage bin modules for missing parts, quick release pins that are not fully engaged, and parts that are installed in incorrect locations; and corrective actions if necessary. We are issuing this AD to detect and correct incorrectly installed center and outboard stowage bin modules that might not remain intact during an emergency landing, resulting in injuries to occupants and interference with airplane evacuation.

Comments

We gave the public the opportunity to participate in developing this AD. The following presents the comment received on the NPRM and the FAA's response to that comment.

Request To Include Additional Illustrations in Service Information

United Airlines stated that it would be helpful if the service information provided examples (illustrations or descriptions) of incorrectly installed parts that required removal. We infer that the commenter is requesting a revision to the service information to include examples of incorrectly installed parts.

We disagree with the commenter's request. We consider that it would be potentially confusing to show examples of possible incorrect part installations. We have determined that the service information should provide detailed illustrations of proper installation configurations. A general description of the incorrect installations is provided. We have not changed this final rule regarding this issue.

Conclusion

We reviewed the relevant data, considered the comment received, and determined that air safety and the public interest require adopting this AD as proposed, except for minor editorial changes. We have determined that these minor changes:

• Are consistent with the intent that was proposed in the NPRM for correcting the unsafe condition; and

• Do not add any additional burden upon the public than was already proposed in the NPRM.

Related Service Information Under 1 CFR Part 51

We reviewed the following Boeing service information. This service information describes procedures for inspecting the installation of the center and outboard stowage bin modules and doing corrective actions.

• Boeing Alert Service Bulletin B787-81205-SB250036-00, Issue 001, dated September 10, 2013.

• Boeing Alert Service Bulletin B787-81205-SB250039-00, Issue 001, dated October 8, 2013.

• Boeing Alert Service Bulletin B787-81205-SB250040-00, Issue 001, dated October 14, 2013.

• Boeing Alert Service Bulletin B787-81205-SB250041-00, Issue 001, dated October 18, 2013.

• Boeing Alert Service Bulletin B787-81205-SB250042-00, Issue 001, dated October 28, 2013.

• Boeing Alert Service Bulletin B787-81205-SB250043-00, Issue 001, dated November 4, 2013.

• Boeing Alert Service Bulletin B787-81205-SB250044-00, Issue 001, dated November 8, 2013.

• Boeing Alert Service Bulletin B787-81205-SB250045-00, Issue 001, dated November 15, 2013.

This service information is reasonably available because the interested parties have access to it through their normal course of business or by the means identified in the ADDRESSES section.

Costs of Compliance

We estimate that this AD affects 6 airplanes of U.S. registry.

We estimate the following costs to comply with this AD:

Estimated Costs
Action | Labor cost | Parts cost | Cost per product | Cost on U.S. operators
Inspection | 222 work-hours × $85 per hour = $18,870 | $0 | $18,870 | $113,220

We estimate the following costs to do any necessary replacements that will be required based on the results of the inspection. We have no way of determining the number of aircraft that might need these replacements.

On-Condition Costs
Action | Labor cost | Parts cost | Cost per product
Replacement | 20 work-hours × $85 per hour = $1,700 | Up to $21,191 | Up to $22,891.

According to the manufacturer, all of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-12-11 The Boeing Company: Amendment 39-18560; Docket No. FAA-2015-4812; Directorate Identifier 2015-NM-034-AD.

(a) Effective Date

This AD is effective July 27, 2016.

(b) Affected ADs

None.

(c) Applicability

This AD applies to certain The Boeing Company Model 787-8 airplanes, certificated in any category, identified in the service information specified in paragraphs (c)(1) through (c)(8) of this AD.

(1) Boeing Alert Service Bulletin B787-81205-SB250036-00, Issue 001, dated September 10, 2013.

(2) Boeing Alert Service Bulletin B787-81205-SB250039-00, Issue 001, dated October 8, 2013.

(3) Boeing Alert Service Bulletin B787-81205-SB250040-00, Issue 001, dated October 14, 2013.

(4) Boeing Alert Service Bulletin B787-81205-SB250041-00, Issue 001, dated October 18, 2013.

(5) Boeing Alert Service Bulletin B787-81205-SB250042-00, Issue 001, dated October 28, 2013.

(6) Boeing Alert Service Bulletin B787-81205-SB250043-00, Issue 001, dated November 4, 2013.

(7) Boeing Alert Service Bulletin B787-81205-SB250044-00, Issue 001, dated November 8, 2013.

(8) Boeing Alert Service Bulletin B787-81205-SB250045-00, Issue 001, dated November 15, 2013.

(d) Subject

Air Transport Association (ATA) of America Code 25, Equipment/Furnishings.

(e) Unsafe Condition

This AD was prompted by a report that certain center and outboard stowage bin modules were incorrectly installed. We are issuing this AD to detect and correct incorrectly installed center and outboard stowage bin modules that might not remain intact during an emergency landing, resulting in injuries to occupants and interference with airplane evacuation.

(f) Compliance

Comply with this AD within the compliance times specified, unless already done.

(g) Inspection and Corrective Action

Except as specified in paragraph (h) of this AD, at the applicable time specified in paragraph 5., “Compliance,” of the applicable service information specified in paragraphs (g)(1) through (g)(8) of this AD: Do a general visual inspection of the installations of the center and outboard stowage bin modules to determine if any part is missing, if any part is installed at an incorrect location, or if any quick release pin is not fully engaged; and do all applicable corrective actions; in accordance with the Accomplishment Instructions of the applicable service information identified in paragraphs (g)(1) through (g)(8) of this AD. Do all applicable corrective actions before further flight.

(1) For airplanes having variable numbers (V/Ns) ZA177 through ZA183 inclusive: Use Boeing Alert Service Bulletin B787-81205-SB250036-00, Issue 001, dated September 10, 2013.

(2) For airplanes having V/Ns ZA100 through ZA105 inclusive, V/Ns ZA116 through ZA119 inclusive, V/N ZA135, and V/Ns ZA506 through ZA511 inclusive: Use Boeing Alert Service Bulletin B787-81205-SB250039-00, Issue 001, dated October 8, 2013.

(3) For airplanes having V/Ns ZA460 through ZA464 inclusive: Use Boeing Alert Service Bulletin B787-81205-SB250040-00, Issue 001, dated October 14, 2013.

(4) For airplanes having V/N ZA233 and V/Ns ZA236 through ZA240 inclusive: Use Boeing Alert Service Bulletin B787-81205-SB250041-00, Issue 001, dated October 18, 2013.

(5) For airplanes having V/Ns ZA285 through ZA290 inclusive: Use Boeing Alert Service Bulletin B787-81205-SB250042-00, Issue 001, dated October 28, 2013.

(6) For airplanes having V/Ns ZA270 through ZA271 inclusive: Use Boeing Alert Service Bulletin B787-81205-SB250043-00, Issue 001, dated November 4, 2013.

(7) For airplanes having V/Ns ZA261 through ZA264 inclusive: Use Boeing Alert Service Bulletin B787-81205-SB250044-00, Issue 001, dated November 8, 2013.

(8) For airplanes having V/Ns ZA536 through ZA538 inclusive: Use Boeing Alert Service Bulletin B787-81205-SB250045-00, Issue 001, dated November 15, 2013.

(h) Exceptions to Service Information Specifications

Where the service information identified in paragraphs (g)(1) through (g)(8) of this AD specifies a compliance time “after the original issue date of this service bulletin,” this AD requires compliance within the specified compliance time after the effective date of this AD.

(i) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO, to make those findings. To be approved, the repair method, modification deviation, or alteration deviation must meet the certification basis of the airplane and the approval must specifically refer to this AD.

(j) Related Information

For more information about this AD, contact Stanley Chen, Aerospace Engineer, Cabin Safety and Environmental Systems Branch, ANM-150S, FAA, Seattle ACO, 1601 Lind Avenue SW., Renton, WA 98057-3356; phone: 425-917-6585; fax: 425-917-6590; email: stanley.chen@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin B787-81205-SB250036-00, Issue 001, dated September 10, 2013.

(ii) Boeing Alert Service Bulletin B787-81205-SB250039-00, Issue 001, dated October 8, 2013.

(iii) Boeing Alert Service Bulletin B787-81205-SB250040-00, Issue 001, dated October 14, 2013.

(iv) Boeing Alert Service Bulletin B787-81205-SB250041-00, Issue 001, dated October 18, 2013.

(v) Boeing Alert Service Bulletin B787-81205-SB250042-00, Issue 001, dated October 28, 2013.

(vi) Boeing Alert Service Bulletin B787-81205-SB250043-00, Issue 001, dated November 4, 2013.

(vii) Boeing Alert Service Bulletin B787-81205-SB250044-00, Issue 001, dated November 8, 2013.

(viii) Boeing Alert Service Bulletin B787-81205-SB250045-00, Issue 001, dated November 15, 2013.

(3) For service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at the FAA, Transport Airplane Directorate, 1601 Lind Avenue SW., Renton, WA. For information on the availability of this material at the FAA, call 425 227-1221.

(5) You may view this service information that is incorporated by reference at the National Archives and Records Administration (NARA). For information on the availability of this material at NARA, call 202-741-6030, or go to: http://www.archives.gov/federal-register/cfr/ibr-locations.html.

Issued in Renton, Washington, on June 3, 2016.
Michael Kaszycki,
Acting Manager, Transport Airplane Directorate, Aircraft Certification Service.

[FR Doc. 2016-14198 Filed 6-21-16; 8:45 am]

BILLING CODE 4910-13-P